DEPARTMENT OF ENERGY

Federal Energy Regulatory Commission

Combined Notice of Filings #1

October 18, 2005.

Take notice that the Commission received the following electric rate filings.

Docket Numbers: ER05-1407-001.

Applicants: Portland General Electric Company.

Description: Portland General Electric Co submits revised filing in response to FERC's request for additional information.

Filed Date: October 12, 2005.

Accession Number: 20051013-0074.

Comment Date: 5 p.m. Eastern Time on Wednesday, November 2, 2005.

Docket Numbers: ER05-150-002.

Applicants: Trinity Public Utilities District.

Description: Trinity Public Utilities District advises FERC that it has prepared, executed and forwarded to Pacific Gas & Electric Co an amendment to the existing Operating Agreement.

Filed Date: October 12, 2005.

Accession Number: 20051014-0113.

Comment Date: 5 p.m. Eastern Time on Wednesday, November 2, 2005.

Docket Numbers: ER06-19-000.

Applicants: MeadWestvaco Energy Services, LLC.

Description: MeadWestvaco Energy Services LLC notifies FERC that it changed its name to NewPage Energy Services LLC effective September 30, 2005.

Filed Date: October 11, 2005.

Accession Number: 20051017-0221.

Comment Date: 5 p.m. Eastern Time on Tuesday, November 1, 2005.

Docket Numbers: ER06-22-000.

Applicants: Midwest Independent Transmission System Operator, Inc.

Description: Midwest Independent Transmission System Operator, Inc submits an unexecuted Large Generator Interconnection Agreement among Endeavor Power Partners, Midwest ISO and Interstate Power and Light Company 22.

Filed Date: October 12, 2005.

Accession Number: 20051013-0045.

Comment Date: 5 p.m. Eastern Time on Wednesday, November 2, 2005.

Docket Numbers: ER06-23-000.

Applicants: TXU Electric Delivery Company.

Description: TXU Electric Delivery Co submits a notice of cancellation of Transmission Service Agreement Nos. 94, 106, and 111 pursuant to FERC Electric Tariff, Ninth Revised Volume No. 1.

Filed Date: October 12, 2005.

Accession Number: 20051013-0078.

Comment Date: 5 p.m. Eastern Time on Wednesday, November 2, 2005.

Docket Numbers: ER06-25-000.

Applicants: American Electric Power Service Corporation.

Description: American Electric Power Service Corp on behalf of AEP Texas North Co submits an executed amended and restated generation interconnection agreement with Buffalo Gap Wind Farm, LLC etc.

Filed Date: October 12, 2005.

Accession Number: 20051013-0081.

Comment Date: 5 p.m. Eastern Time on Wednesday, November 2, 2005.

Docket Numbers: ER06-29-000.

Applicants: Dartmouth Power Associates Limited Partnership.

Description: Dartmouth Power Associates L.P. submits a notice of cancellation of FERC Rate Schedule No. 1 effective October 13, 2005.

Filed Date: October 12, 2005.

Accession Number: 20051014-0116.

Comment Date: 5 p.m. Eastern Time on Wednesday, November 2, 2005.

Docket Numbers: ER06-30-000.

Applicants: Midwest Independent Transmission System Operator, Inc.

Description: Midwest Independent Transmission System Operator Inc. submits an executed Large Generator Interconnection Agreement among Union Electric Co dba AmerenUE, Midwest ISO and Central Illinois Public Service Company dba AmerenCIPS.

Filed Date: October 11, 2005.

Accession Number: 20051017-0222.

Comment Date: 5 p.m. Eastern Time on Tuesday, November 1, 2005.

Docket Numbers: ER99-3077-002.

Applicants: Colorado Power Partners.

Description: Colorado Power Partners submits its updated market power analysis in compliance with FERC's prior Orders.

Filed Date: October 12, 2005.

Accession Number: 20051014-0114.

Comment Date: 5 p.m. Eastern Time on Wednesday, November 2, 2005.

Docket Numbers: ER99-3197-002.

Applicants: BIV Generation Company, L.L.C.

Description: BIV Generation Co, LLC submits its updated market power analysis in compliance with FERC's July 28, 1999 Order.

Filed Date: October 12, 2005.

Accession Number: 20051014-0118.

Comment Date: 5 p.m. Eastern Time on Wednesday, November 2, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-5900 Filed 10-25-05; 8:45 am]

BILLING CODE 6717-01-P